FEDERAL COMMUNICATIONS COMMISSION

47 CFR Part 73

[MB Docket Nos. 07-294; 06-121, 02-277; 04-228; MM Docket Nos. 01-235, 01-317, 00-244; FCC 07-217]

Promoting Diversification of Ownership in the Broadcasting Services

AGENCY: Federal Communications Commission.

ACTION: Final rule; announcement of effective date.

SUMMARY: In this document, the Commission announces that the Office of Management and Budget (OMB) has approved, for a period of three years, the information collection requirements contained in FCC Form 303-S. The form changes were approved on February 2, 2011.

DATES: The amendments to FCC Form 303-S required as a result of the rule amendments adopted at 73 FR 28361, May 16, 2008, are effective on March 14, 2011.

FOR FURTHER INFORMATION CONTACT: For additional information, please contact Cathy Williams, cathy.williams@fcc.gov or on (202) 418-2918.

SUPPLEMENTARY INFORMATION: This document announces that, on February 2, 2011, OMB approved, for a period of three years, the information collection requirements contained in FCC Form 303-S. The Commission publishes this document to announce the effective date of FCC Form 303-S. See In the Matter of Promoting Diversification of Ownership in the Broadcasting Services, MB Docket Nos. 07-294, 06-121, 02-277; 04-228; MM Docket Nos. 01-235, 01-317, 00-244; FCC 07-217, 73 FR 28361, May 16, 2008.

Synopsis

As required by the Paperwork Reduction Act of 1995 (44 U.S.C. 3507), the Commission is notifying the public that it received OMB approval on February 2, 2011, for the information collection requirements contained in FCC Form 303-S. Under 5 CFR part 1320, an agency may not conduct or sponsor a collection of information unless it displays a current, valid OMB Control Number.

No person shall be subject to any penalty for failing to comply with a collection of information subject to the Paperwork Reduction Act that does not display a valid OMB Control Number.

The OMB Control Number is 3060-0110 and the total annual reporting burdens for respondents for this information collection are as follows:

OMB Control Number: 3060-0110.

OMB Approval Date: February 2, 2011.

Expiration Date: February 28, 2014.

Title: Application for Renewal of Broadcast Station License, FCC Form 303-S; § 73.3555(d), Daily Newspaper Cross-Ownership.

Form Number: FCC Form 303-S.

Type of Review: Revision of a currently approved collection.

Respondents: Business or other for profit entities; Not-for-profit institutions; State, Local or Tribal Governments.

Number of Respondents/Responses: 3,821 respondents and 3,821 responses.

Estimated Time per Response: 1.25-12 hours.

Frequency of Response: Eight-year reporting requirement; Third-party disclosure requirement.

Total Annual Burden: 10,403 hours.

Total Annual Costs: $3,886,358.

Obligation to Respond: Required to obtain or retain benefits. Statutory authority for this collection of information is contained in Sections 154(i), 303, 307 and 308 of the Communications Act of 1934, as amended, and Section 204 of the Telecommunications Act of 1996.

Nature and Extent of Confidentiality: There is no need for confidentiality with this information collection.

Privacy Act Impact Assessment: No impact(s).

Needs and Uses: On December 18, 2007, the Commission adopted a Report and Order and Third Further Notice of Proposed Rulemaking (the “Order”) in MB Docket Nos. 07-294; 06-121; 02-277; 04-228; MM Docket Nos. 01-235; 01-317; 00-244; FCC 07-217. The Order adopted rule changes designed to expand opportunities for participation in the broadcasting industry by new entrants and small businesses, including minority- and women-owned businesses. Consistent with actions taken by the Commission in the Order, the following changes are made to FCC Form 303-S: The instructions have been revised to incorporate a definition of “eligible entity,” which will apply to the Commission's existing Equity Debt Plus (“EDP”) standard, one of the standards used to determine whether interests are attributable. Section II includes a new certification for licensees to certify that their advertising sales agreements do not discriminate on the basis of race or ethnicity and that all such agreements held by the licensee contain nondiscrimination clauses. The instructions for Section II have been revised to include a new description of the certification.

Second, Section III includes a new question, Item 4, requiring licensees to certify that, during the preceding license term, the station has not been silent (or operating for less than its prescribed minimum operating hours) for any period of more than 30 days, consistent with the Commission's rules. If a licensee cannot so certify, it must submit an exhibit specifying the exact dates in the preceding license term on which the station was silent or operating for less than its prescribed minimum hours. See 47 CFR 73.1740 (Commercial Broadcast Stations); 47 CFR 73.561 (Noncommercial Educational FM Stations); 47 CFR 73.850 (Low-power FM Stations); and 47 CFR 73.1745(b); 47 CFR 73.1740(b) (Noncommercial Educational AM Stations). See also 47 U.S.C. 309(k) (Statutory Standards for Broadcast Renewal Procedures); Birach Broadcasting Corp., 16 FCC Rcd 5015, 5020 (2001) (holding that a station's failure to provide any service during the license term is material to whether it served the public interest, convenience, and necessity pursuant to Section 309(k)). Consistent with the holding in Birach, the Commission's rules for minimum operating schedules, and the renewal standards set forth in Section 309(k), Section III includes the new certification and the instructions to include a new description of the certification.

Section III, Item 7 (previously Item 6), has been revised to eliminate the requirement that full power AM and FM licensees submit an exhibit to demonstrate compliance with the Commission's maximum permissible radio frequency (“RF”) electromagnetic exposure limits, in the event that they are unable or not eligible to use the RF worksheets contained in the instructions of the Form. All applicants continue to be required to certify that their facilities comply with the Commission's maximum permissible RF limits. The elimination of the exhibit requirement for radio broadcasters, conforms the question so it is now consistent with the requirements for licensees of broadcast television stations, translator (FM and TV stations), and low-power FM stations, who are not required to submit an exhibit. The instructions for Section III, Item 7 and Worksheet #1 Environmental have been revised accordingly.

Section V, Item 4 has been revised to clarify that Low Power TV (“LPTV”) stations still need to file Form 396 with the renewal application, but that they may or may not need to file a public file report and post it to their Web site. The word “as” has been replaced with the word “if.” The old version stated that stations are required to certify that they have created a public file report and posted it to their Web sites “as” required by regulation. The instructions have been revised to explain that for Section V, Item 4, only LPTV stations that are part of a station employment unit with full-power stations, where the unit employs at least five or more full-time employees, needs to file a public file report and post it to the station Web site. Other LPTV stations do not have to create a public file report because they do not have a public file.

Additionally, a small number of typographical errors have been corrected throughout the instructions and form.

Finally, the burden hours and burden costs published in the Federal Register on October 13, 2010, 75 FR 62816 have been reduced to reflect that only applicants for renewal of commercial broadcast stations are required to complete the new certification in Section II, Item 7 that their advertising sales agreements do not discriminate on the basis of race or ethnicity and that all such agreements contain nondiscrimination clauses.

Federal Communications Commission.
Bulah P. Wheeler,
Deputy Manager, Office of the Secretary, Office of Managing Director.

[FR Doc. 2011-3050 Filed 2-10-11; 8:45 am]

BILLING CODE 6712-01-P